DEPARTMENT OF EDUCATION

Teaching American History Grant Program

Catalog of Federal Domestic Assistance (CFDA) Number: 84.215X.

AGENCY: Office of Innovation and Improvement, Department of Education.

ACTION: Notice of final revisions to selection criteria.

SUMMARY: The Assistant Deputy Secretary for Innovation and Improvement announces selection criteria under the Teaching American History Grant (TAH) Program. The Assistant Secretary may use these selection criteria for competitions in fiscal year (FY) 2009 and later years. We take this action to provide the Secretary with the flexibility to use selection criteria (i) Established for the TAH Program in the notice of final selection criteria and other application requirements, published in the Federal Register on April 15, 2005 (70 FR 19939) (2005 Notice); (ii) from the menu of general selection criteria in the Education Department General Administrative Regulations (EDGAR) in 34 CFR 75.210; (iii) based on statutory provisions in accordance with 34 CFR 75.209; or (iv) from any combination of (i) through (iii) for competitions in fiscal year (FY) 2009 and in subsequent years. We intend that this choice of selection criteria will provide greater flexibility to evaluate TAH Program applications.

DATES: Effective Date: These final revisions to selection criteria are effective January 22, 2009.

FOR FURTHER INFORMATION CONTACT: Mia D. Howerton, U.S. Department of Education, 400 Maryland Avenue, SW., room 4W212, Washington, DC 20202-5960. Telephone: (202) 205-0147 or by e-mail: mia.howerton@ed.gov.

If you use a telecommunications device for the deaf (TDD), call the Federal Relay Service, toll free, at 1-800-877-8339.

SUPPLEMENTARY INFORMATION: Purpose of Program: The TAH Program is authorized under Title II, Part C, Subpart 4 of the Elementary and Secondary Education Act of 1965, as amended by the No Child Left Behind Act of 2001. The goal of the TAH Program is to support activities that raise student achievement by improving teachers' knowledge, understanding, and appreciation of American history.

Program Authority: 20 U.S.C. 6721.

We published a notice of proposed revisions to selection criteria for this program in the Federal Register on October 29, 2008 (73 FR 64310). That notice contained background information and our reasons for proposing these revisions to selection criteria.

There is only one difference between the proposed revisions to selection criteria and these final revisions to selection criteria.

Public Comment: In response to our invitation in the notice of proposed revisions to selection criteria, two parties submitted comments.

We group major issues according to subject. Generally, we do not address technical and other minor changes.

Analysis of Comments and Changes: An analysis of the comments and of any changes in the revisions to the selection criteria since publication of the notice of proposed revisions to selection criteria follows.

Comment: A commenter questioned what it means to expand the range of selection criteria.

Discussion: Expanding the range of selection criteria means that we will now have a larger pool of criteria from which to select for competitions under the TAH Program. In prior competitions, the Department was limited to using only the selection criteria that was established for the TAH Program in the 2005 Notice. With these final revisions to selection criteria, the Department will be able to use the selection criteria established for the TAH Program in the 2005 Notice as well as selection criteria chosen from the menu of general selection criteria in the Education Department General Administrative Regulations (EDGAR) in 34 CFR 75.210, selection criteria based on statutory provisions in accordance with 34 CFR 75.209, or selection criteria from any combination of these for competitions in fiscal year (FY) 2009 and in subsequent years.

Changes: None.

Comment: A commenter questioned whether the selection criteria and the point value assigned to each criterion would remain constant from year to year.

Discussion: The selection criteria for the TAH Program and the point value for each criterion (as well as the maximum number of points assigned to all selection criteria used for a competition) may change each year depending on the needs of the program. We will announce the maximum possible points assigned to each criterion as well as the maximum possible points for all criteria in the notice inviting applications or the application package, or both.

Changes: We have clarified that we will announce the maximum possible points for all criteria (not just the maximum possible points for each criterion) in the notice inviting applications or the application package, or both.

Comment: A commenter questioned if the selection criteria established for the TAH Program in the 2005 Notice would be rescinded.

Discussion: The selection criteria established for the TAH Program in the 2005 Notice will not be rescinded. Those criteria may still be used in a particular competition. These final revisions simply ensure that the Department has the flexibility to use selection criteria in addition to or in combination with those established for the TAH Program in the 2005 Notice in its competitions for FY 2009 and subsequent years.

Changes: None.

Final Selection Criteria

The Assistant Deputy Secretary for Innovation and Improvement announces final revisions to the selection criteria under the Teaching American History Grant Program. In addition to the selection criteria established in the 2005 Notice, the Secretary may use any of the selection criteria in § 75.210, criteria based on statutory requirements under § 75.209, or any combination of these when establishing selection criteria for a particular TAH Program competition. We may apply one or more of these criteria in any year in which this program is in effect. In the notice inviting applications or the application package, or both, we will announce the maximum possible points assigned to each criterion as well as the maximum possible points for all criteria.

This notice does not preclude us from proposing additional priorities, requirements, definitions, or selection criteria, subject to meeting applicable rulemaking requirements.

Note: This notice does not solicit applications. In any year in which we choose to use one or more of these selection criterion, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final selection criteria justify the costs.

We have determined, also, that this final regulatory action does not unduly interfere with State, local, and tribal governments in the exercise of their governmental functions.

We summarized the costs and benefits of this regulatory action in the notice of proposed revisions to selection criteria.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 18, 2008.
Amanda L. Farris,
Assistant Deputy Secretary for Innovation and Improvement.

[FR Doc. E8-30553 Filed 12-22-08; 8:45 am]

BILLING CODE 4000-01-P